DEPARTMENT OF LABOR

Employment and Training Administration

[TA-W-52,464]

Ace Packaging Systems, a Wholly-Owned Subsidiary of International Paper, Newport, MI; Notice of Termination of Investigation

Pursuant to Section 221 of the Trade Act of 1974, as amended, an investigation was initiated on August 5, 2003 in response to a petition filed on behalf of workers at Ace Packaging Systems, Newport, Michigan.

The petitioner has requested that the petition be withdrawn. Consequently, the investigation has been terminated.

Signed at Washington, DC, this 5th day of September, 2003.
Richard Church,
Certifying Officer, Division of Trade Adjustment Assistance.

[FR Doc. 03-27455 Filed 10-30-03; 8:45 am]

BILLING CODE 4510-30-P